OFFICE OF PERSONNEL MANAGEMENT

Submission for OMB Review; Comment Request for Review of a New Information Collection

AGENCY: Office of Personnel Management.

ACTION: Notice.

SUMMARY: In accordance with the Paperwork Reduction Act of 1995 (Public Law 104-13, May 22, 1995), this notice announces that the Office of Personnel Management (OPM), Office of Human Resource Development, submitted to the Office of Management and Budget a request for review of a new information collection instrument. OPM is committed to improving its programs and assuring that the training and assistance needs of client agencies are met. Our website (http://www.opm.gov/hrd) is instrumental in providing widespread access to information on human resource development programs, practices, and policies to our client agencies. In order to determine our success, OPM needs to learn what constituents think about the content of the website and its effectiveness. We're Listening—A Survey of the OHRD Website is designed for this purpose.

This is a new information collection instrument; therefore, an estimate of how many will be completed annually is not possible. The OHRD website averages over 30,000 hits per week. The survey should take a maximum of 10 minutes to complete.

The annual estimated burden is 5,000 hours.

Comments are invited on:

—Whether this collection of information is necessary for the proper performance of functions of the Office of Personnel Management, and whether it will have practical utility;

—Whether our estimate of the public burden of this collection is accurate, and based on valid assumptions and methodology; and

—Ways in which we can minimize the burden of the collection of information on those who are to respond, through use of the appropriate technological collection techniques or other forms of information technology.

For copies of this proposal, contact Mary Beth Smith-Toomey on (202) 606-8358, or mbtoomey@opm.gov.

DATES: Comments on this proposal should be received on or before September 15, 2000.

ADDRESSES: Send or deliver comments to—

Sarah D. Adams, Director, Office of Human Resource Development, Office of Workforce Relations, U.S. Office of Personnel Management, 1900 E Street, NW, Room 1453

and

Joseph Lackey, OPM Desk Officer, Office of Information and Regulatory Affairs, Office of Management and Budget, New Executive Office Building, NW., Room 10235, Washington, DC 20503

U.S. Office of Personnel Management.
Janice R. Lachance,
Director.

[FR Doc. 00-20653 Filed 8-15-00; 8:45 am]

BILLING CODE 6325-01-P